DEPARTMENT OF JUSTICE

Notice of Lodging of Consent Decree Under the Clean Water Act

Under 28 CFR 50.7, notice is hereby given that on June 25, 2004, a proposed Consent Decree in United States and State of Louisiana v. Sewerage District No. 1 of Iberia Parish, Civil Action No. 04-1352 was lodged with the United States District Court for the Western District of Louisiana.

In this action the United States, and its co-plaintiff the State of Louisiana, sought injunctive relief and a civil penalty to address sanitary sewer overflows and other violations of the Clean Water Act and the National Pollutant Discharge Elimination System (“NPDES”) permit issued jointly to the Sewerage District No. 1 and the City of New Iberia for the Tete Bayou publicly owned treatment works (“POTW”). Under the proposed Consent Decree, the Sewerage District No. 1 has agreed to perform a comprehensive characterization, evaluation, and rehabilitation of the Sewerage District's collection system, and to construct and equalization basin to eliminate sanitary sewer overflows at the Tete Bayou POTW. The Sewerage District also has agreed to pay a civil penalty of $51,400, one half of which will be paid to the United States and half of which will be paid to the State.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Sewerage District No. 1 of Iberia Parish, D.J. Ref. No. 90-5-1-1-07473.

The Consent Decree may be examined during the public comment period on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.00 (25 cents per page reproduction cost) payable to the U.S. Treasury.

Thomas A. Mariani, Jr.,
Assistant Section Chief, Environmental Enforcement Section, Environment and Natural Resources Division.

[FR Doc. 04-16000 Filed 7-14-04; 8:45 am]

BILLING CODE 4410-15-M